GULF COAST ECOSYSTEM RESTORATION COUNCIL

[Docket No. 112062016-1111-07]

Amendment to Initial Funded Priorities List

AGENCY: Gulf Coast Ecosystem Restoration Council.

ACTION: Notice of amendment to Initial Funded Priorities List.

SUMMARY: On November 16, 2016, the Gulf Coast Ecosystem Restoration Council (Council) amended its Initial Funded Priorities List (FPL) to change the Responsible Council Member of the FPL activity entitled “GOMA Coordination” from the State of Alabama to the Department of Commerce.

FOR FURTHER INFORMATION CONTACT: Please send questions by email to john.ettinger@restorethegulf.gov or contact John Ettinger at (504) 444-3522.

SUPPLEMENTARY INFORMATION:

I. Background

The Deepwater Horizon oil spill led to passage of the Resources and Ecosystems Sustainability, Tourist Opportunities, and Revived Economies of the Gulf Coast States Act of 2012 (RESTORE Act), which dedicates 80% of all Clean Water Act administrative and civil penalties related to the oil spill to the Gulf Coast Restoration Trust Fund (Trust Fund). The RESTORE Act also established the Council as an independent federal entity comprised of the governors of five Gulf Coast states and the department heads of six federal agencies. Among other responsibilities, the Council administers a portion of the Trust Fund known as the Council-Selected Restoration Component in order to “undertake projects and programs, using the best available science, which would restore and protect the natural resources, ecosystems, fisheries, marine and wildlife habitats, beaches, coastal wetlands, and economy of the Gulf Coast.” Additional information on the Council can be found here: https://www.restorethegulf.gov.

On December 9, 2015, the Council approved an Initial FPL, which includes projects and programs approved for funding under the Council-Selected Restoration Component, along with activities that the Council identified as priorities for potential future funding. The FPL included the project entitled “GOMA Coordination” to support further development of a Monitoring Community of Practice using expertise from existing Gulf of Mexico Alliance Priority Issue Teams. As approved in the FPL, the Responsible Council Member of this activity was the State of Alabama.

On November 16, 2016, the Council voted to change the Responsible Council Member of the FPL activity entitled “GOMA Coordination” from the State of Alabama to the Department of Commerce. The Department of Commerce is a co-sponsor of a closely related FPL activity entitled “Council Monitoring & Assessment Program Development.” This proposed amendment would increase administrative efficiency and facilitate project implementation and tracking. No other aspect of this FPL activity will change.

Additional information on this project is available in an activity-specific appendix to the FPL, which can be found here: https://www.restorethegulf.gov.

Will D. Spoon,
Program Analyst, Gulf Coast Ecosystem Restoration Council.

[FR Doc. 2016-29238 Filed 12-5-16; 8:45 am]

BILLING CODE 6560-58-P